DEPARTMENT OF AGRICULTURE

Animal and Plant Health Inspection Service

[Docket No. APHIS-2013-0043]

Monsanto Co.; Notice of Intent To Prepare an Environmental Impact Statement for Determination of Nonregulated Status of Herbicide Resistant Soybeans and Cotton, and Notice of Virtual Public Meetings

AGENCY: Animal and Plant Health Inspection Service, USDA.

ACTION: Notice of intent to prepare an environmental impact statement; extension of comment period and notice of virtual public meetings.

SUMMARY: We are extending the comment period for our notice of intent to prepare an environmental impact statement (EIS) on environmental impacts that may result from the potential approval of petitions seeking a determination of nonregulated status of cultivars of dicamba herbicide resistant soybeans and cotton produced by the Monsanto Company. During the comment period, we are requesting public comments to further delineate the scope of the alternatives and environmental impacts and issues to be included in the EIS. This action will allow interested persons additional time to prepare and submit comments. We are also announcing the dates of two virtual public meetings that we will be hosting to provide the public with additional opportunities to comment during the scoping period.

DATES: We will consider all comments that we receive on or before July 17, 2013. Online virtual public meetings will be held June 26, 2013, from 7 p.m. to 9 p.m. EST and June 27, 2013, from 4 p.m. to 6 p.m. EST.

ADDRESSES: You may submit comments by either of the following methods:

• Federal eRulemaking Portal: Go to http://www.regulations.gov/#!documentDetail;D=APHIS-2013-0043-0001.

• Postal Mail/Commercial Delivery: Send your comment to Docket No. APHIS-2013-0043, Regulatory Analysis and Development, PPD, APHIS, Station 3A-03.8, 4700 River Road, Unit 118, Riverdale, MD 20737-1238.

Supporting documents and any comments we receive on this docket may be viewed at http://www.regulations.gov/#!docketDetail;D=APHIS-2013-0043 or in our reading room, which is located in room 1141 of the USDA South Building, 14th Street and Independence Avenue SW., Washington, DC. Normal reading room hours are 8 a.m. to 4:30 p.m., Monday through Friday, except holidays. To be sure someone is there to help you, please call (202) 799-7039 before coming.

Other Information: Details regarding the virtual public meetings, including how to participate, will be posted as they become available at http://www.aphisvirtualmeetings.com.

FOR FURTHER INFORMATION CONTACT: Dr. Rebecca Stankiewicz Gabel, Branch Chief, Biotechnology Environmental Analysis Branch, Environmental Risk Analysis Programs, Biotechnology Regulatory Services, APHIS, 4700 River Road, Unit 147, Riverdale, MD 20737-1238; (301) 851-3954. To obtain copies of the petition, contact Ms. Cindy Eck at (301) 851-3882, email: cynthia.a.eck@aphis.usda.gov.

SUPPLEMENTARY INFORMATION:

Background

On May 16, 2013, the Animal and Plant Health Inspection Service published in the Federal Register (78 FR 28796-28798, Docket No. APHIS-2013-0043) a notice stating our decision to complete an environmental impact statement (EIS) for the potential determinations of nonregulated status of cultivars of dicamba herbicide resistant soybeans and cotton produced by the Monsanto Company in order to perform a comprehensive environmental analysis of the potential selection of dicamba resistant weeds and other potential environmental impacts that may occur as a result of making determinations of nonregulated status of these events.

Comments on the notice were required to be received on or before June 17, 2013. We are extending the comment period on Docket No. APHIS-2013-0043 for an additional 30 days. This action will allow interested persons additional time to prepare and submit comments. We are also providing an opportunity to comment at two virtual public meetings during the comment period. Information on the virtual public meetings is available under DATES and ADDRESSES.

All comments received during the scoping period will be carefully considered in developing the final scope of the EIS. Upon completion of the draft EIS, a notice announcing its availability and an opportunity to comment on it will be published in the Federal Register.

Authority: 7 U.S.C. 7701-7772 and 7781-7786; 31 U.S.C. 9701; 7 CFR 2.22, 2.80, and 371.3.

Done in Washington, DC, this 5th day of June 2013.
Kevin Shea,
Acting Administrator, Animal and Plant Health Inspection Service.

[FR Doc. 2013-13691 Filed 6-7-13; 8:45 am]

BILLING CODE 3410-34-P